DEPARTMENT OF COMMERCE

National Oceanic and Atmospheric Administration

[I.D. 051402A]

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Scallop Oversight Committee and Advisory Panel that was scheduled for June 10 & 11, 2002, at 9 a.m.

FOR FURTHER INFORMATION CONTACT: Paul J. Howard, Executive Director, New England Fishery Management Council (978) 465-0492.

SUPPLEMENTARY INFORMATION: The initial notice published in the Federal Register on May 22, 2002 (67 FR 35964). All other information contained in the previously-published notice remains unchanged. The meeting will be rescheduled at a later date and announced in the Federal Register.

Dated: May 22, 2002.
Richard W. Surdi,
Acting Director, Office of Sustainable Fisheries, National Marine Fisheries Service.

[FR Doc. 02-13259 Filed 5-24-02; 8:45 am]

BILLING CODE 3510-22-S